DEPARTMENT OF THE TREASURY

Office of the Comptroller of the Treasury

Proposed Information Collection; Comment Request

AGENCY: Office of the Comptroller of the Currency (OCC), Treasury.

ACTION: Notice and request for comment.

SUMMARY: The OCC, as part of its continuing effort to reduce paperwork and respondent burden, invites the general public and other Federal agencies to take this opportunity to comment on a proposed information collection, as required by the Paperwork Reduction Act of 1995. The OCC is soliciting comment concerning its proposed information collection titled, “OCC Communications Questionnaire.”

DATES: You should submit written comments by November 22, 2004.

ADDRESSES: You should direct written comments to the Communications Division, Office of the Comptroller of the Currency, Public Information Room, Mailstop 1-5, Attention: 1557-0226, 250 E Street, SW., Washington, DC 20219. In addition, comments may be sent by facsimile transmission to (202) 874-4448, or by electronic mail to regs.comments@occ.treas.gov. You can inspect and photocopy the comments at the OCC's Public Information Room, 250 E Street, SW., Washington, DC 20219. You can make an appointment to inspect the comments by calling (202) 874-5043.

FOR FURTHER INFORMATION CONTACT: You can request additional information from John Ference or Camille Dixon, (202) 874-5090, Legislative and Regulatory Activities Division, Office of the Comptroller of the Currency, 250 E Street, SW., Washington, DC 20219.

SUPPLEMENTARY INFORMATION: The OCC is proposing to collect the following information from national banks:

Title: OCC Communications Questionnaire.

OMB Number: 1557-0226.

Description: The OCC is proposing to collect information from national banks regarding the quality, timeliness, and effectiveness of OCC communications products, such as booklets, issuances, CDs, and Web site. Completed questionnaires will provide the OCC with information needed to properly evaluate the effectiveness of its paper and electronic communications products. The OCC will use the information to identify problems and to improve its service to national banks.

Type of Review: Revision of a currently approved collection.

Affected Public: Businesses or other for-profit (national banks).

Estimated Number of Respondents: 2,100.

Estimated Total Annual Responses: 2,100.

Frequency of Response: One time.

Estimated Time per Respondent: 30 minutes.

Estimated Total Annual Burden: 1,050 hours.

An agency may not conduct or sponsor, and a respondent is not required to respond to, an information collection unless the information collection displays a currently valid OMB control number.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techiques or other forms of information technology; and

(e) Estimates of capital or startup costs and costs of operation, maintenance, and purchase of services to provide information.

Dated: September 14, 2004.
Stuart Feldstein,
Assistant Director, Legislative and Regulatory Activities Division.

[FR Doc. 04-21125 Filed 9-20-04; 8:45 am]

BILLING CODE 4810-33-P